DEPARTMENT OF TRANSPORTATION

Federal Aviation Administration

14 CFR Part 39

[Docket No. FAA-2017-0504; Directorate Identifier 2017-NE-12-AD]

RIN 2120-AA64

Airworthiness Directives; GEVEN S.p.A., Seat Assemblies, Type D1-02 and D1-03

AGENCY: Federal Aviation Administration (FAA), DOT.

ACTION: Notice of proposed rulemaking (NPRM).

SUMMARY: We propose to adopt a new airworthiness directive (AD) for certain Geven S.p.A., Type D1-02 and D1-03 seat assemblies. This proposed AD was prompted by a report that seat belt attachment bolts were found detached or partially detached from the seat. This proposed AD would require inspection, torque verification, and modification of certain model seats. We are proposing this AD to correct the unsafe condition on these products.

DATES: We must receive comments on this NPRM by August 28, 2017.

ADDRESSES: You may send comments by any of the following methods:

• Federal eRulemaking Portal: Go to http://www.regulations.gov. Follow the instructions for submitting comments.

• Mail: Docket Management Facility, U.S. Department of Transportation, 1200 New Jersey Avenue SE., West Building, Ground Floor, Room W12-140, Washington, DC 20590-0001.

• Hand Delivery: Deliver to Mail address above between 9 a.m. and 5 p.m., Monday through Friday, except Federal holidays.

• Fax: 202-493-2251.

For service information identified in this NPRM, contact Geven Technical Assistance Department, Via Boscofangone, Zona Industriale Nola-Marigliano, 80035 Nola (NA), Italy; phone: +39 081 31 21 396; fax: +39 081 31 21 321; email: Technical.assistance@geven.com. You may view this service information at the FAA, Engine & Propeller Directorate, 1200 District Avenue, Burlington, MA. For information on the availability of this material at the FAA, call 781-238-7125.

Examining the AD Docket

You may examine the AD docket on the Internet at http://www.regulations.gov by searching for and locating Docket No. FAA-2017-0504; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: Neil Doh, Aerospace Engineer, Boston Aircraft Certification Office, FAA, Engine & Propeller Directorate, 1200 District Avenue, Burlington, MA 01803; phone: 781-238-7757; fax: 781-238-7199; email: neil.doh@faa.gov.

SUPPLEMENTARY INFORMATION:

Comments Invited

We invite you to send any written relevant data, views, or arguments about this proposed AD. Send your comments to an address listed under the ADDRESSES section. Include “Docket No. FAA-2017-0504; Directorate Identifier 2017-NE-12-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact with FAA personnel concerning this proposed AD.

Discussion

The European Aviation Safety Agency (EASA), which is the Technical Agent for the Member States of the European Community, has issued EASA AD 2014-0187, dated August 20, 2014 (referred to hereinafter as “the MCAI”), to correct an unsafe condition for the specified products. The MCAI states:

An operator reported that seat belt attachment bolts were found detached or partially detached from the seat. A further check on several aeroplanes revealed that on a large number of seats of the same model, the seat belt attachment bolts were not properly torqued and secured as defined. This condition, if not detected and corrected, could lead to failure of the seats to perform their intended function, possibly resulting in injury to occupants in case of an emergency landing. To address this potential unsafe condition, Geven published SB No. D103-25-004 to provide inspection instructions to verify if the seat belt attachment bolts are properly torqued and secured, and correction of any deficiencies. In addition, for certain D1-03 seats, the SB provides instructions to modify the seat belt attachment assembly. For the reasons described above, this AD requires a one-time inspection of all safety belt attachment bolts and, depending on findings, accomplishment of the applicable corrective action(s). This AD also requires modification of the seat belt attachment assembly on certain D1-03 seats.

You may obtain further information by examining the MCAI in the AD docket on the Internet at http://www.regulations.gov by searching for and locating Docket No. FAA-2017-0504.

Related Service Information Under 1 CFR Part 51

Geven S.p.A. has issued Service Bulletin (SB) No. D103-25-004, Revision 4, dated March 15, 2016. The SB describes procedures for inspection, torque verification, and modification of certain model seats known to be installed on ATR 42 and ATR 72 airplanes. This service information is reasonably available because the interested parties have access to it through their normal course of business or by the means identified in the ADDRESSES section.

FAA's Determination and Requirements of This Proposed AD

This product has been approved by the aviation authority of Italy, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require inspection, torque verification and modification of certain model seats.

Costs of Compliance

We estimate that this proposed AD affects an unknown number of seat assemblies installed on, but not limited to, 38 ATR 42 and ATR 72 airplanes of U.S. registry.

We estimate the following costs to comply with this proposed AD:

Estimated Costs
Action | Labor cost | Parts cost | Cost per product | Cost on U.S. operators
Seat modification ATR 42 | 1.5 work-hours × $85 per hour = $127.50 | $302 | $429.50 | $10,737.50
Torque check ATR 42 | 0.8 work-hours × $85 per hour = $68.00 | 0 | 68.00 | 1,700.00
Seat modification ATR 72 | 2.3 work-hours × $85 per hour = $195.50 | 368 | 563.50 | 7,325.50
Seat remove and replace ATR 72 | 1.2 work-hours × $85 per hour = $102.00 | 0 | 102.00 | 1,326.00

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

GEVEN S.p.A.: Docket No. FAA-2017-0504; Directorate Identifier 2017-NE-12-AD.

(a) Comments Due Date

We must receive comments by August 28, 2017.

(b) Affected ADs

None.

(c) Applicability

This AD applies to all GEVEN S.p.A. (Geven) Type D1-02 and D1-03 (also known as “Lightweight Classic” and “Lightweight Prestige”) seats, with part numbers (P/Ns) and Effectivity Codes listed in Table 1.1.1 of Geven Service Bulletin (SB) No. D103-25-004, Revision 4, dated March 15, 2016.

These appliances are installed on, but not limited to, ATR 42 and ATR 72 airplanes of U.S. registry.

(d) Subject

Joint Aircraft System Component (JASC) 2500 Code, Cabin Equipment/Furnishings.

(e) Reason

This AD was prompted by a report that seat belt attachment bolts were found detached or partially detached from the seat. We are issuing this AD to prevent failure of the seats.

(f) Compliance

Comply with this AD within the compliance times specified, unless already done.

(1) For all Geven Type D1-02 and D1-03 (also known as “Lightweight Classic” and “Lightweight Prestige”) in-arm table, standard, and last row seats, P/N D1-02-( )( )( )-( )( )( ), and P/N D1-03-( )( )( )-( )( )( ), within 6 months after the effective date of this AD, modify the safety belt attachment assemblies on the aisle side spreader, and torque check the safety belt attachment assemblies on the central and fuselage side spreaders to 71 in-lbs (8 nm) using Geven SB No. D103-25-004, Revision 4, dated March 15, 2016, and

(2) For all Geven Type D1-02 and D1-03 (also known as “Lightweight Classic” and “Lightweight Prestige”) aft facing seats, P/N D1-02-( )( )( )-( )( )( ), and P/N D1-03-( )( )( )-( )( )( ), within 6 months after the effective date of this AD, torque check the seat belt attachment assemblies on the aisle side, central, and fuselage side spreaders to 71 in-lbs using Geven SB No. D103-25-004, Revision 4, dated March 15, 2016, and

(3) Within 6 months after the effective date of this AD, verify that the safety belt attachment is free to rotate. If it is not free to rotate, replace the bushing in accordance with paragraph 3.3.1 of Geven SB No. D103-25-004, Revision 4, dated March 15, 2016, or

(4) Within 6 months after the effective date of this AD, block each affected seat to prevent use of each affected seat until paragraphs (f)(1), (2), and (3) of this AD are accomplished.

(g) Credit for Previous Actions

You may take credit for the inspections, torque verifications, and modifications that are required by paragraphs (f)(1), (2), and (3) of this AD if you performed those actions before the effective date of this AD using Geven SB No. D103-25-004, Revision 4, dated March 15, 2016.

(h) Alternative Methods of Compliance (AMOCs)

The Manager, Boston Aircraft Certification Office, FAA, may approve AMOCs for this AD. Use the procedures found in 14 CFR 39.19 to make your request.

(i) Related Information

(1) For more information about this AD, contact Neil Doh, Aerospace Engineer, Boston Aircraft Certification Office, FAA, Engine & Propeller Directorate, 1200 District Avenue, Burlington, MA 01803; phone: 781-238-7757; fax: 781-238-7199; email: neil.doh@faa.gov.

(2) Refer to MCAI EASA AD 2014-0187, dated August 20, 2014, for more information. You may examine the MCAI in the AD docket on the Internet at http://www.regulations.gov by searching for and locating it in Docket No. FAA-2017-0504.

(3) Geven SB No. D103-25-004, Revision 4, dated March 15, 2016 can be obtained from Geven Technical Assistance Department, using the contact information in paragraph (i)(4) of this proposed AD.

(4) For service information identified in this proposed AD, contact Geven Technical Assistance Department, Via Boscofangone, Zona Industriale Nola-Marigliano, 80035 Nola (NA), Italy; phone: +39 081 31 21 396; fax: +39 081 31 21 321; email: Technical.assistance@geven.com.

(5) You may view this service information at the FAA, Engine & Propeller Directorate, 1200 District Avenue, Burlington, MA. For information on the availability of this material at the FAA, call 781-238-7125.

Issued in Burlington, Massachusetts, on July 6, 2017.
Robert J. Ganley,
Acting Manager, Engine & Propeller Directorate, Aircraft Certification Service.

[FR Doc. 2017-14546 Filed 7-13-17; 8:45 am]

BILLING CODE 4910-13-P